DEPARTMENT OF ENERGY

Federal Energy Regulatory Commission

Combined Notice of Filings #1

Take notice that the Commission received the following electric corporate filings:

Docket Numbers: EC16-130-001.

Applicants: Nevada Power Company, Sierra Pacific Power Company, South Point Energy Center, LLC.

Description: Section 203 Market Power Mitigation Compliance Filing of Nevada Power Company, et. al.

Filed Date: 12/15/16.

Accession Number: 20161215-5303.

Comments Due: 5 p.m. ET 12/29/16.

Take notice that the Commission received the following electric rate filings:

Docket Numbers: ER10-1982-014; ER10-1253-013; ER10-1252-013; ER10-1246-013.

Applicants: Consolidated Edison Company of New York, Inc., Orange and Rockland Utilities, Inc., Consolidated Edison Energy, Inc., Consolidated Edison Solutions, Inc.

Description: Triennial Market Power Analysis for the Northeast region of the Con Edison Companies.

Filed Date: 12/15/16.

Accession Number: 20161215-5306.

Comments Due: 5 p.m. ET 2/13/17.

Docket Numbers: ER16-1882-002; ER10-2882-032; ER10-2886-030; ER13-1101-025; ER13-1541-024; ER14-661-014; ER14-787-018; ER15-1475-009; ER15-2593-008; ER15-54-008; ER15-55-008; ER16-1154-006; ER16-452-008; ER16-705-006; ER16-706-006;ER17-252-002.

Applicants: Southern Power Company, Southern Turner Cimarron I, LLC, Boulder Solar Power, LLC, Spectrum Nevada Solar, LLC, Campo Verde Solar, LLC, SG2 Imperial Valley LLC, Macho Springs Solar, LLC, Lost Hills Solar, LLC, Blackwell Solar, LLC, North Star Solar, LLC, Desert Stateline LLC, Parrey, LLC, RE Tranquillity LLC, RE Garland A LLC, RE Garland LLC,2016 ESA Project Company, LLC.

Description: Notification of Non-Material of Change in Status of Boulder Solar Power, LLC, et al.

Filed Date: 12/15/16.

Accession Number: 20161215-5307.

Comments Due: 5 p.m. ET 1/5/17.

Docket Numbers: ER16-1969-002.

Applicants: Midcontinent Independent System Operator, Inc.

Description: Compliance filing: 2016-12-15_Revisions to MISO-PJM JOA on coord of generator retirement studies to be effective 2/14/2017.

Filed Date: 12/15/16.

Accession Number: 20161215-5254.

Comments Due: 5 p.m. ET 1/5/17.

Docket Numbers: ER17-420-001.

Applicants: Northern States Power Company, a Minnesota corporation.

Description: Tariff Amendment: 2016-12-16 553, 554, 565-NSP NOC Filing-Amnd to be effective 11/29/2016.

Filed Date: 12/16/16.

Accession Number: 20161216-5055.

Comments Due: 5 p.m. ET 1/6/17.

Docket Numbers: ER17-556-000.

Applicants: Grady Wind Energy Center, LLC.

Description: Initial rate filing: Application for Market-Based Tariff and Waivers to be effective 12/16/2016.

Filed Date: 12/15/16.

Accession Number: 20161215-5255.

Comments Due: 5 p.m. ET 1/5/17.

Docket Numbers: ER17-557-000.

Applicants: Southern California Edison Company.

Description: § 205(d) Rate Filing: Revisions to Added Facilities and Interconnection Agreement to be effective 4/1/2016.

Filed Date: 12/16/16.

Accession Number: 20161216-5002.

Comments Due: 5 p.m. ET 1/6/17.

Docket Numbers: ER17-558-000.

Applicants: Louisville Gas and Electric Company.

Description: § 205(d) Rate Filing: Revisions to Ancillary Services Schedules to be effective 2/15/2017.

Filed Date: 12/16/16.

Accession Number: 20161216-5034.

Comments Due: 5 p.m. ET 1/6/17.

Docket Numbers: ER17-559-000.

Applicants: Mid-Atlantic Interstate Transmission, LL, PJM Interconnection, L.L.C.

Description: § 205(d) Rate Filing: MAIT submits Agency Agreement No. 4593 among MetEd, Penelec and MAIT to be effective 1/1/2017.

Filed Date: 12/16/16.

Accession Number: 20161216-5044.

Comments Due: 5 p.m. ET 1/6/17.

Docket Numbers: ER17-560-000.

Applicants: Midcontinent Independent System Operator, Inc.

Description: § 205(d) Rate Filing: 2016-12-16_RS 8 MISO-Manitoba Hydro SOA Resource Planning Revisions to be effective 2/15/2017.

Filed Date: 12/16/16.

Accession Number: 20161216-5049.

Comments Due: 5 p.m. ET 1/6/17.

Docket Numbers: ER17-561-000.

Applicants: Cedar Creek II, LLC.

Description: § 205(d) Rate Filing: Revised Market-Based Rate Tariff Filing to be effective 2/15/2017.

Filed Date: 12/16/16.

Accession Number: 20161216-5059.

Comments Due: 5 p.m. ET 1/6/17.

Docket Numbers: ER17-562-000.

Applicants: BP Energy Company.

Description: § 205(d) Rate Filing: Revised Market-Based Rate Tariff Filing to be effective 2/15/2017.

Filed Date: 12/16/16.

Accession Number: 20161216-5062.

Comments Due: 5 p.m. ET 1/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2016.
Nathaniel J. Davis, Sr.,
Deputy Secretary.

[FR Doc. 2016-30834 Filed 12-21-16; 8:45 am]

BILLING CODE 6717-01-P